DEPARTMENT OF COMMERCE

National Oceanic and Atmospheric Administration

[I.D. 041105B]

Fisheries of the South Atlantic; Scientific and Statistical Committee, Biological Assessment Subcommittee, Socio-economic Subcommittee

AGENCY: National Marine Fisheries Service (NMFS), National Oceanic and Atmospheric Administration (NOAA), Commerce.

ACTION: Notice of meeting of the Scientific and Statistical Committee, Biological Subcommittee and Socio-economic Subcommittee.

SUMMARY: The South Atlantic Fishery Management Council (Council) will hold a meeting of its Scientific and Statistical Committee (SSC) and SSC Biological Subcommittee and Socio-economic Subcommittee in Charleston, SC.

DATES: The meetings will take place May 10-12, 2005.

ADDRESSES: The meetings will be held at the Town and Country Inn, 2008 Savannah Highway, Charleston, SC 29407; phone 800/334-6660 or 843/571-1000, FAX 843/766-9444.

FOR FURTHER INFORMATION CONTACT: Kim Iverson, Public Information Officer, South Atlantic Fishery Management Council, One Southpark Circle, Suite 306, Charleston, S.C., 29407-4699; phone 843/571-4366 or toll free 866/SAFMC-10; FAX 843/769-4520; email: kim.iverson@safmc.net.

SUPPLEMENTARY INFORMATION: Under the Magnuson-Stevens Act, the SSC is the body responsible for reviewing the Council's scientific materials. The Council will hold a joint meeting of its SSC Biological Subcommittee and Socio-economic Subcommittee on May 10, 2005 from 1:30 p.m. until 6 p.m. During the joint meeting the subcommittees will receive the black sea bass stock assessment for the South Atlantic and stock rebuilding projections and also Snapper Grouper Amendment 13B.

On May 11, 2005, the SSC Biological Subcommittee and SSC Socio-economic Subcommittee will meet in separate consecutive sessions from 8:30 a.m. -12:00 noon. The Subcommittees will develop recommendations for the full SSC regarding black sea bass and Snapper Grouper 13B. From 1:30 p.m. until 6 p.m., there will be a meeting of the full SSC.

On May 12, 2005, the full SSC will continue its meeting from 8:30 a.m. until 5 p.m. During the meeting, the SSC will review the Black Sea Bass Stock Assessment, data and projections and discuss issues relevant to Amendment 13B to the Snapper Grouper Fishery Management Plan. Items for discussion include: (1) species groupings for management units, (2) years of data to be used for determining Stock Status Determination Criteria for data poor species, (3) years of data to be used to calculate percentage reductions in fishing mortality, and (4) release mortality rates.

Special Accommodations

These meetings are physically accessible to people with disabilities. Requests for auxiliary aids should be directed to the council office (see ADDRESSES) 5 days prior to the meetings.

Note: The times and sequence specified in this agenda are subject to change.

Dated: April 11, 2005.
Emily Menashes,
Acting Director, Office of Sustainable Fisheries, National Marine Fisheries Service.

[FR Doc. E5-1757 Filed 4-13-05; 8:45 am]

BILLING CODE 3510-22-S